DEPARTMENT OF THE INTERIOR

Bureau of Land Management

[LLCAD06000.51010000.ER0000.LVRWB20B6340.20X5017AP.CACA56753; MO#450059376]

Notice of Availability of the Whitewater River Groundwater Replenishment Facility Project Final Environmental Impact Statement, Riverside County, CA

AGENCY: Bureau of Land Management, Interior.

ACTION: Notice of availability.

SUMMARY: In accordance with the National Environmental Policy Act (NEPA) of 1969, as amended, and the Federal Land Policy and Management Act of 1976, as amended, the Bureau of Land Management (BLM) has prepared a final environmental impact statement (EIS) for the Whitewater River Groundwater Replenishment Facility Project (Project), and by this notice is announcing the availability of the final EIS for a 30-day review period.

DATES: The BLM will issue a final decision on the proposal a minimum of 30 days after the date that the Environmental Protection Agency (EPA) publishes its notice of availability (NOA) in the Federal Register. The EPA usually publishes its NOAs on Fridays.

ADDRESSES: You may review the final EIS at https://go.usa.gov/x6KsM. Copies of the Whitewater River Groundwater Replenishment Facility final EIS are available at the Palm Springs South Coast Field Office at 1201 Bird Center Drive, Palm Springs, CA 92262.

FOR FURTHER INFORMATION CONTACT: Brandon G. Anderson, BLM Project Manager, telephone: (760) 422-9120; email: bganderson@blm.gov; address Bureau of Land Management, 1201 Bird Center Drive, Palm Springs, CA 92262.

Persons who use telecommunication devices for the deaf may call the Federal Relay Service (FRS) at 1-800-877-8339 to contact the BLM during normal business hours. The FRS is available 24 hours a day, 7 days a week, to leave a message or question. You will receive a reply during normal business hours.

SUPPLEMENTARY INFORMATION: The Coachella Valley Water District (CVWD) seeks a right-of-way (ROW) grant from the BLM for its existing groundwater replenishment facility in North Palm Springs that is partially located on public lands managed by the BLM. The existing facility consists of water control berms, intake structures, conveyance structures, and 19 infiltration ponds over approximately 690 acres of BLM-managed public lands. The facility also includes 1,480 acres of lands held by CVWD. No new construction and no change in operations are proposed. The change in volume represents CVWD's request that the BLM analyze environmental impacts for the full annual capacity of the facility, instead of the anticipated water allotments, as was done for the previous grant. The change in acreage represents CVWD's request to authorize the use of public lands for water control berms upstream of its intake structure.

The Proposed Action (Alternative 1) is the BLM Preferred Alternative and would authorize the facility in its existing configuration, which has the ability to infiltrate up to 511,000 acre-feet per year, representing the maximum physical capacity of the facility. In addition to the Proposed Action, the final EIS considers a no action alternative and three action alternatives. Alternative 2 (Partial Implementation) would authorize only the area of public lands on which the water control structures upstream of the intake are located. Alternative 3 (Reduced Volume) would authorize the same facility as described under Alternative 1 but would limit annual infiltration volume to 220,000 acre-feet per year. Alternative 4 (Land Disposal) would authorize the sale or exchange of the public lands within the project footprint and would authorize the facility operation on public lands for a period of 10 years, sufficient to implement the disposal. Alternative 5 (No Action) would not authorize those portions of the facility that are located on public lands. Those portions would be removed, and the public lands rehabilitated.

The BLM is the lead agency under NEPA and will make Federal decisions regarding the ROW for the Project. The U.S. Fish and Wildlife Service is a Cooperating Agency and will issue a Biological Opinion for the project. The U.S. Bureau of Indian Affairs, Agua Caliente Band of Cahuilla Indians, Desert Water Agency, and Metropolitan Water District of Southern California are Cooperating Agencies in this environmental review, but do not have direct permitting roles in the project.

On June 11, 2021, the BLM published a draft EIS for a 45-day review period. The BLM received nine comments during the public comment process. Issues raised included: concerns for ground water quality and quantity, impacts to listed species, and feasibility of mitigation measures. These issues are addressed in the response to comments and final EIS analysis.

The BLM utilized and coordinated the NEPA process to help fulfill the public involvement process under the National Historic Preservation Act (54 U.S.C. 306108), as provided in 36 CFR 800.2(d)(3).

(Authority: 40 CFR 1506.6; 40 CFR 1506.10)

Erica E. St. Michel,
BLM California Deputy State Director, Communications.

[FR Doc. 2022-17312 Filed 8-11-22; 8:45 am]

BILLING CODE 4310-40-P